DEPARTMENT OF LABOR

Veterans' Employment and Training Service

Agency Information Collection Activities; Comment Request: VETS' Competitive Grant Program Reporting

ACTION: Notice of availability; request for comments.

SUMMARY: VETS is announcing an opportunity for public comment on the proposed revision of certain information the agency collects from grant recipients. Under the Paperwork Reduction Act (PRA) of 1995, Federal agencies are required to publish a notice in the Federal Register concerning each proposed collection of information and to allow 60 days for public comment in response to the notice.

DATES: Consideration will be given to all written comments received by November 18, 2019.

ADDRESSES: A copy of this Information Collection Request (ICR) with applicable supporting documentation, including a description of the likely respondents, proposed frequency of response, and estimated total burden, may be obtained for free by contacting Rebekah Haydin by telephone at (972) 850-4720 (this is not a toll-free number) or by email at Haydin.Rebekah@dol.gov.

Submit written comments about this ICR by mail or courier to the U.S. Department of Labor, Veterans' Employment and Training Service, 525 S. Griffin Street, #858, Dallas, TX 75202; by email: Haydin.Rebekah@dol.gov; or by fax: (972) 850-4716.

FOR FURTHER INFORMATION CONTACT: Rebekah Haydin, by telephone at (972) 850-4720 (this is not a toll-free number) or by email at Haydin.Rebekah@dol.gov.

SUPPLEMENTARY INFORMATION: The Department of Labor, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor's VETS administers funds for the Homeless Veterans' Reintegration Program grants to state, local, and tribal governments; businesses and other for-profit and not-for-profit organizations on an annual program year basis. These competitive grants are codified under 38 U.S.C. 2021, 2021A, and 2023.

VETS provides funds to competitively-awarded grantees through annual Funding Opportunity Announcements and option year funding. The total number of grantees varies based on the amount of available funds, awarded in grants up to $500,000 each.

The Assistant Secretary for Veterans' Employment and Training monitors and supervises the distribution and use of those funds as required by 38 U.S.C. 2021 (b). Additionally, and in accordance with 38 U.S.C. 2021 (d), the Secretary reviews performance and provides a biennial report to Congress on the program, including an evaluation of the services furnished to veterans and an analysis of the information we have collected. VETS intends to request approval for this information collection that streamlines the annual funding request process for grantees, reports the use of grantee funds in sufficient detail to allow interim adjustments that ensure all appropriated funding is expended properly, and provides data needed for VETS' biennial report to Congress.

The forms and reports collect required programmatic and financial data from grantees. The continued use of standardized formats for collecting this information helps to ensure that requested data is provided in a uniform way, reporting burdens are minimized, the impact of collection requirements on respondents are properly assessed, collection instruments are clearly understood by respondents, and the information is easily consolidated for posting in accordance with statutory requirements.

This information collection is subject to the PRA. A Federal agency generally cannot conduct or sponsor a collection of information, and the public is generally not required to respond to an information collection, unless it is approved by the Office of Management and Budget (OMB) under the PRA and displays a currently valid OMB Control Number. In addition, notwithstanding any other provisions of law, no person shall generally be subject to penalty for failing to comply with a collection of information that does not display a valid Control Number. See 5 CFR 1320.5(a) and 1320.6.

As previously noted this request has been classified as a revision. More specifically, VETS intends to add the VETS-704 Applicant Summary form that will allow VETS to timely make informed decisions about grant awards, and to request certain additional information on the VETS-701 Technical Performance Report about the participants grantees serve and the services provided to those participants.

Interested parties are encouraged to provide comments to the contact shown in the ADDRESSES section. Comments must be written to receive consideration, and they will be summarized and included in the request for OMB approval of the final ICR. In order to help ensure appropriate consideration, comments should mention OMB Control Number 1293-0014. Submitted comments will also be a matter of public record for this ICR and posted on the internet, without redaction. VETS encourages commenters not to include personally identifiable information, confidential business data, or other sensitive statements/information in any comments. VETS is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-VETS.

Type of Review: Revision.

Title of Collection: VETS' Competitive Grant Program Reporting.

Forms:

1. VETS-700, Competitive Grants (CG) Planned Goals Chart;

2. VETS-701, CG Technical Performance Report (TPR);

3. VETS-702, CG Technical Performance Narrative (TPN);

4. VETS-703, Stand Down After Action Report (SDAAR) and;

5. VETS-704, Applicant Synopsis.

OMB Control Number: 1293-0014.

Affected Public: State, Local, and Tribal Governments; Private Sector—businesses or other for-profits and not-for-profit institutions.

Estimated Number of Respondents: 1,078.

Frequency: On occasion.

Total Estimated Annual Responses: 2,662.

Estimated Total Annual Burden Hours: 11,004.

Total Estimated Annual Other Cost Burden: $0.

Authority: 44 U.S.C. 3506(c)(2)(A).

Dated: Signed in Washington, DC, this 12th day of September, 2019.
Joseph S. Shellenberger,
Acting Assistant Secretary, Veterans' Employment and Training Service.

[FR Doc. 2019-20213 Filed 9-18-19; 8:45 am]

BILLING CODE 4510-79-P